DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate and Notice of Availability of Final Findings.

SUMMARY: The NOAA Office of Ocean and Coastal Resource Management (OCRM) announces its intent to evaluate the performance of the New York Coastal Management Program, the Waquoit Bay (Massachusetts) National Estuarine Research Reserve, the Ohio Coastal Management Program, the New Jersey Coastal Management Program, the South Slough (Oregon) National Estuarine Research Reserve, and the Virgin Islands Coastal Management Program.

The Coastal Zone Management Programs evaluation will be conducted pursuant to section 312 of the Coastal Zone Management Act of 1972, as amended (CZMA) and regulations at 15 CFR Part 923, Subpart L. The National Estuarine Research Reserve evaluations will be conducted pursuant to sections 312 and 315 of the CZMA and regulations at 15 CFR Part 921, Subpart E and Part 923, Subpart L. The CZMA requires continuing review of the performance of states with respect to coastal program implementation. Evaluation of Coastal Management Programs and National Estuarine Research Reserves requires findings concerning the extent to which a State has met the national objectives, adhered to its Coastal Management Program document or Reserve final management plan approved by the Secretary of Commerce, and adhered to the terms of financial assistance awards funded under the CZMA.

Each evaluation will include a site visit, consideration of public comments, and consultations with interested Federal, State, and local agencies and members of the public. A public meeting will be held as part of each site visit. Notice is hereby given of the dates of the site visits for the listed evaluations, and the dates, local times, and locations of the public meetings during the site visits.

Dates and Times: The New York Coastal Management Program evaluation site visit will be held April 9-13, 2007. One public meeting will be held during the week. The public meeting will be held on Tuesday, April 10, 2007, at 9 a.m. at the Rochester City Hall, 30 Church Street, Commissioner of Environmental Services Offices, Room 321B, 3rd Floor, Rochester, New York.

The Waquoit Bay (Massachusetts) National Estuarine Research Reserve evaluation site visit will be held May 8-10, 2007. One public meeting will be held during the week. The public meeting will be held on Tuesday, May 8, 2007, at 6 p.m. at the Waquoit Bay National Estuarine Research Reserve Visitors Center, 149 Waquoit Highway, East Falmouth, Massachusetts.

The Ohio Coastal Management Program evaluation site visit will be held May 14-18, 2007. One public meeting will be held during the week. The public meeting will be held on Wednesday, May 16, 2007, at 7 p.m. at the Erie County Commissioners Office, 247 Columbus Avenue, 3rd Floor Chambers, Room 301, Sandusky, Ohio.

The New Jersey Coastal Management Program evaluation site visit will be held June 4-8, 2007. One public meeting will be held during the week. The public meeting will be held on Wednesday, June 6, 2007, at 5:30 p.m. at Ocean County College, Technology Center, 1st Floor Lecture Hall, College Drive, Toms River, New Jersey.

The South Slough (Oregon) National Estuarine Research Reserve evaluation site visit will be held June 19-22, 2007. One public meeting will be held during the week. The public meeting will be held on Tuesday, June 19, 2007, at 5:30 p.m. at the North Bend Public Library, 1800 Sherman Avenue, North Bend, Oregon.

The Virgin Islands Coastal Management Program evaluation site visit will be held June 25-29, 2007. Three public meetings will be held during the week. The first public meeting will be held on Tuesday, June 26, 2007, at 6 p.m. at the Department of Education Curriculum Center, Kingshill, St. Croix, U.S. Virgin Islands. The second public meeting will be held on Wednesday, June 27, 2007, at 6 p.m. at the Main Conference Room, Department of Planning and Natural Resources, Cyril E. King Airport, Terminal Building—Second Floor, No. 70 Lindberg Bay, St. Thomas, U.S. Virgin Islands. The third public meeting will be held on Thursday, June 28, 2007, at 6 p.m. at the Conference Room, Legislature Building, No. 109 Enighed Contant, St. John, U.S. Virgin Islands.

ADDRESSES: Copies of states' most recent performance reports, as well as OCRM's evaluation notification and supplemental information request letters to the states, are available upon request from OCRM. Written comments from interested parties regarding these Programs are encouraged and will be accepted until 15 days after the public meeting held for a Program. Please direct written comments to Ralph Cantral, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the Old Woman Creek (Ohio) and Apalachicola (Florida) National Estuarine Research Reserves (NERRs) and the Commonwealth of the Northern Mariana Islands Coastal Management Program. Sections 312 and 315 of the Coastal Zone Management Act of 1972 (CZMA), as amended, require a continuing review of the performance of coastal states with respect to approval of CMPs and the operation and management of NERRs. The Old Woman Creek (Ohio) and Apalachicola (Florida) NERRs were found to be adhering to programmatic requirements of the NERR System. The Commonwealth of the Northern Mariana Islands was found to be implementing and enforcing its federally approved coastal management program, addressing the national coastal management objectives identified in CZMA Section 303(2)(A)-(K), and adhering to the programmatic terms of its financial assistance awards.

Copies of these final evaluation findings may be obtained upon written request from: Ralph Cantral, Chief, National Policy and Evaluation Division, Office of Ocean and Coastal Resource Management, NOS/NOAA, 1305 East-West Highway, 10th Floor, N/ORM7, Silver Spring, Maryland 20910, or Ralph.Cantral@noaa.gov.

FOR FURTHER INFORMATION CONTACT: Ralph Cantral, Chief, National Policy and Evaluation Division, Office of Ocean and Coastal Resource Management, NOS/NOAA, 1305 East-West Highway, 10th Floor, N/ORM7, Silver Spring, Maryland 20910, (301)563-7118.

Federal Domestic Assistance Catalog No. 11.419; Coastal Zone Management Program Administration.

Dated: February 20, 2007.
David M. Kennedy,
Director, Office of Ocean and Coastal Resource Management, National Ocean Service, National Oceanic and Atmospheric Administration.

[FR Doc. E7-3272 Filed 2-26-07; 8:45 am]

BILLING CODE 3510-08-P